DEPARTMENT OF TRANSPORTATION

Maritime Administration

[Docket No. MARAD-2019-0093]

Deepwater Port License Application: Texas GulfLink LLC

AGENCY: Maritime Administration, Department of Transportation.

ACTION: Notice of availability; notice of virtual public meetings; request for comments.

SUMMARY: The Maritime Administration (MARAD) and the U.S. Coast Guard (USCG) announce the availability of the Draft Environmental Impact Statement (DEIS) for the Texas GulfLink LLC (GulfLink) deepwater port license application for the export of crude oil from the United States to nations abroad. Publication of this notice announces a 45-day comment period, requests public participation in the environmental impact review process, provides information on how to participate in the environmental impact review process, and announces the two virtual public meetings and an informational open house website for the DEIS.

DATES: To ensure comments on the DEIS will be considered, materials submitted in response to this request for comments must be submitted to the www.regulations.gov website or the Federal Docket Management Facility as detailed in the ADDRESSES section no later than 45 days after the Environmental Protection Agency publishes its notice of availability of the Draft Environmental Impact Statement for GulfLink Deepwater Port License Application MARAD-2019-0093 in the Federal Register.

MARAD and USCG will hold two virtual public meetings in connection with the GulfLink DEIS. The first virtual public meeting will be held via webinar/teleconference on December 16, 2020, from 6:00 p.m. to 8:00 p.m. Central Standard Time. The second virtual public meeting will be held via webinar/teleconference on December 17, 2020, from 6:00 p.m. to 8:00 p.m. Central Standard Time. The public meetings may end later than the stated time, depending on the number of persons who wish to make a comment on the record.

Anyone that is interested in attending and/or speaking at the virtual public meetings must register. Registration information is provided on both the Virtual Open House website, which is located at TexasGulfLinkDWP-EIS.consultation.ai, and the Registration part of this notice.

ADDRESSES: The informational open house and virtual public meetings will take place virtually (via webinar/teleconference) due to the nation-wide public health emergency.

The GulfLink deepwater port license application, comments, supporting information and the DEIS are available for viewing and electronic comment submission at http://www.regulations.gov under docket number MARAD-2019-0093. The Final EIS (FEIS), when published, will be announced and available at the site as well.

If you are unable to provide electronic comments using www.regulations.gov, you may submit hard copy comments to include the docket number “MARAD-2019-0093” by mail to U.S. Department of Transportation, Docket Management Facility, West Building, Room W12-140, 1200 New Jersey Avenue SE, Washington, DC 20590. The Federal Docket Management Facility's telephone number is 202-366-9317 or 202-366-9826, the fax number is 202-493-2251.

We encourage you to submit comments electronically through the Federal eRulemaking Portal at http://www.regulations.gov. If you submit your comments electronically, it is not necessary to also submit a hard copy by mail. If you are unable to submit electronic comments using http://www.regulations.gov, but wish to submit comments electronically, please contact either Mr. Patrick W. Clark, USCG, or Mr. Linden Houston, MARAD, as listed in the following FOR FURTHER INFORMATION CONTACT section of this document. Additionally, if you go to the public docket and sign up for email alerts, you will be notified when comments are posted.

FOR FURTHER INFORMATION CONTACT: Mr. Patrick W. Clark, Project Manager, USCG, telephone: 202-372-1358, email: Patrick.W.Clark@uscg.mil; or Mr. Linden Houston, Transportation Specialist, Office of Deepwater Ports and Port Conveyance, MARAD, telephone: 202-366-4839, email: Linden.Houston@dot.gov.

SUPPLEMENTARY INFORMATION: A Notice of Application that summarized the GulfLink deepwater port license application for a project that would include pipelines and a crude oil storage terminal located onshore in Brazoria County, Texas, and an offshore pipeline leading to a deepwater port to be located 26.6 nautical miles off the coast of Brazoria County, Texas was published in the Federal Register on June 26, 2019 (84 FR 30298-30300). A Notice of Intent to Prepare an Environmental Impact Statement (EIS) and Notice of Public Meetings was published in the Federal Register on July 3, 2019 (84 FR 32008-32010).

Request for Comments

MARAD requests public comments or other relevant information related to the DEIS for the proposed GulfLink deepwater port. These comments will inform preparation of the FEIS. Attendance is encouraged at the virtual public meetings. If you are unable to submit electronic comments using http://www.regulations.gov, and wish to submit comments electronically, please contact either Mr. Patrick W. Clark, USCG, or Mr. Linden Houston, MARAD, as listed in the following FOR FURTHER INFORMATION CONTACT section. All comments and/or material submitted will be posted, without change, to the Federal Docket Management Facility website (http://www.regulations.gov), and will include any personal information you provide. Therefore, submitting this information makes it public. You may wish to read the Privacy and Use Notice that is available on the www.regulations.gov website, and the Department of Transportation (DOT) Privacy Act Notice that appeared in the Federal Register on April 11, 2000 (65 FR 19477), see PRIVACY ACT. You may view docket submissions at the DOT Docket Management Facility or electronically at the www.regulations.gov website.

Virtual Public Meeting and Informational Open House

We encourage you to visit the informational open house website and attend one of the virtual public meetings to learn about, and to comment on the proposed action and the environmental impact analysis contained in the DEIS.

The informational open house website (TexasGulfLinkDWP-EIS.consultation.ai) will be available throughout the public comment period, which will end 45 days after the Environmental Protection Agency publishes its notice of availability of the DEIS for GulfLink Deepwater Port License Application MARAD-2019-0093 in the Federal Register. The website includes information about the project, including the DEIS presented in a virtual open house format. The project docket, located online at www.regulations.gov (docket number MARAD-2019-0093) will be available for viewing during the public comment period as well as after the end of the public comment period.

The public meetings will be hosted on the Zoom platform and will be accessible via webinar online and by phone. The virtual public meetings will be recorded and transcribed for placement in the public docket for the GulfLink project. The Zoom platform can be accessed online by visiting the Zoom website at www.zoom.us.

Registration

Interested parties wishing to speak during the virtual public meetings as well as to attend the meetings must register prior to the public meetings. You may register online at TexasGulfLinkDWP-EIS.consultation.ai or obtain help registering by contacting AECOM toll free at 833-588-1191.

Meeting Procedure

Registered speakers will be recognized in the following order: Elected officials, public agency representatives, then individuals or groups in the order in which they registered. In order to accommodate all speakers, speaker time may be limited, meeting hours may be extended, or both. Speakers' transcribed remarks will be included in the public docket. You may also submit written material for inclusion in the public docket throughout the 45-day comment period. Written material must include the author's name. Please respect the meeting procedures to ensure a constructive information-gathering session. The presiding officer will use their discretion to conduct the meetings in an orderly manner.

The virtual public meetings are intended to be accessible to all participants. Individuals who require special assistance such as sign language services, language interpreters or other reasonable accommodation, please indicate your special assistance need when registering either at TexasGulfLinkDWP-EIS.consultation.ai or contact AECOM toll free at 833-588-1191. Requests for special assistance must be made at least five business days in advance of the virtual public meeting. Please include contact information as well as information about your specific needs.

Background

On January 31, 2019, MARAD and USCG received a license application from GulfLink for all Federal authorizations required for a license to construct, own, and operate a deepwater port for the export of crude oil. The proposed deepwater port would be located in Federal waters approximately 26.6 nautical miles off the coast of Brazoria County, Texas. Texas was designated as the Adjacent Coastal State (ACS) for the GulfLink license application.

The Federal agencies involved held a public scoping meeting in connection with the GulfLink license application. The public scoping meeting was held in Lake Jackson, Texas on July 17, 2019. Transcripts of the scoping meetings are included in the public docket located at www.regulations.gov under docket number MARAD-2019-0093.

MARAD and USCG issued a regulatory “stop-clock” letter to GulfLink for its application on May 31, 2019, which remained in effect until October 23, 2019, when MARAD and USCG determined the agencies received sufficient information to continue the Federal review process. A second “stop clock letter” was issued to GulfLink on September 15, 2020 for additional information requests and remained in effect until November 10, 2020.

The purpose of the DEIS is to analyze reasonable alternatives to, and the direct, indirect, and cumulative environmental impacts of the proposed action. The DEIS is currently available for public review at the Federal docket website: www.regulations.gov under docket number MARAD-2019-0093.

Summary of the License Application

GulfLink is proposing to construct, own, and operate a deepwater port terminal in the Gulf of Mexico to export domestically produced crude oil. Use of the deepwater port would include the loading of various grades of crude oil at flow rates of up to 85,000 barrels per hour (bph). The GulfLink deepwater port would allow for up to two Very Large Crude Carriers (VLCCs) or other crude oil carriers to moor at single point mooring (SPM) buoys and connect with the deepwater port via floating connecting crude oil hoses. The maximum frequency of loading VLCCs or other crude oil carriers would be one million barrels per day, 365 days per year.

The overall project would consist of offshore and marine components as well as onshore components as described below.

The GulfLink deepwater port offshore and marine components would consist of the following:

• An Offshore Platform: One fixed offshore platform with piles in Outer Continental Shelf Galveston Area Lease Block GA-423, approximately 26.6 nautical miles off the coast of Brazoria County, Texas in a water depth of approximately 104 feet. The fixed offshore platform would have four decks comprising of personal living space, pipeline metering, a surge system, a pig receiving station, generators, lease automatic custody transfer unit, oil displacement prover loop, sample system, radar tower, electrical and instrumentation building, portal cranes, a hydraulic crane, an Operations/Traffic Room, and helicopter deck.

• One 42-inch outside diameter, 28.1-nautical-mile long crude oil pipeline would be constructed from the shoreline crossing in Brazoria County, Texas, to the GulfLink deepwater port for crude oil delivery. This pipeline would connect the proposed onshore GulfLink Jones Creek Terminal (described below) to the offshore GulfLink deepwater port.

• The fixed offshore platform is connected to VLCC tankers for loading by two separate 42-inch diameter departing pipelines. Each pipeline will depart the fixed offshore platform, carrying the crude oil to a Pipeline End Manifold (PLEM) in approximately 104 feet water depth located 1.25 nautical miles from the fixed offshore platform. Each PLEM is then connected through two 24-inch hoses to a Single Point Mooring (SPM) Buoy. Two 24-inch floating loading hoses will connect the SPM Buoy to the VLCC or other crude oil carrier. SPM Buoy 1 is in Outer Continental Shelf Galveston Area Lease Block GA-423 and SPM Buoy 2 is in Outer Continental Shelf Galveston Area Lease Block GA A 36.

The GulfLink deepwater port onshore storage and supply components would consist of the following:

• An Onshore Storage Terminal: The proposed GulfLink Jones Creek Terminal would be located in Brazoria County, Texas, on approximately 262 acres of land, consisting of eight above ground storage tanks, each with a working storage capacity of 708,168 barrels, for a total onshore storage capacity of approximately 6 million barrels. The facility can accommodate four (4) additional tanks, bringing the total to twelve tanks or up to 8.0 million barrels of working capacity.

• The GulfLink Jones Creek Terminal also would include: Six electric-driven mainline crude oil pumps; three electric driven booster crude oil pumps; one crude oil pipeline pig launcher; one crude oil pipeline pig receiver; two measurement skids for measuring incoming crude oil—one skid located on the Department of Energy's Bryan Mound facility, and one skid installed for the outgoing crude oil barrels leaving the tank storage to be loaded on the VLCC; and ancillary facilities to include an operations control center, electrical substation, offices, and warehouse building.

• Two crude oil pipelines would be constructed onshore to support the GulfLink deepwater port and include the following items:

○ One proposed incoming 9.7 statute mile 36-inch outside diameter pipeline connected to a leased 40-inch ExxonMobil pipeline originating at the Department of Energy (DOE) facility in Bryan Mound with connectivity to the Houston market.

○ One proposed outgoing 12.7 statute mile 42-inch outside diameter connection from the GulfLink Jones Creek Terminal to the shore crossing where this becomes the pipeline supplying the proposed offshore GulfLink deepwater port.

Privacy Act

Anyone can search the electronic form of all comments received into any of our dockets by the name of the individual submitting the comment (or signing the comment, if submitted on behalf of an association, business, labor union, etc.). You may review DOT's complete Privacy Act Statement in the Federal Register published on April 11, 2000 (65 FR 19477-78), or you may visit http://dms.dot.gov.

(Authority: 33 U.S.C. 1501 et seq., 49 CFR 1.93(h)).

* * * * *

Dated: November 18, 2020.
By Order of the Maritime Administrator.
T. Mitchell Hudson, Jr.,
Secretary, Maritime Administration.

[FR Doc. 2020-25843 Filed 11-25-20; 8:45 am]

BILLING CODE 4910-81-P